NATIONAL SCIENCE FOUNDATION

Advisory Committee for Engineering; Notice of Meeting

In accordance with the Federal Advisory Committee Act (Pub. L. 92-463, as amended) the National Science Foundation announces the following meeting:

Name: Advisory Committee for Engineering (#1170).

Date and Time: November 1, 2000; 8:30 a.m.-5 p.m.; November 2, 2000; 8:30 a.m.-12 p.m.

Place: Hilton Arlington & Towers (adjacent to the NSF), 950 North Stafford Street, Arlington, Virginia 22203.

Type of Meeting: Open.

Contact Person: Elbert L. Marsh, Deputy Assistant Director for Engineering, National Science Foundation, Suite 505, 4201 Wilson Boulevard, Arlington, VA 22203; Telephone: (703) 292-4609. If you are attending the meeting and need access to the NSF building, please contact Maxine Byrd at 703-292-4601 or at mbyrd@nsf.gov so that your name can be added to the building access list.

Minutes: May be obtained from the contact person listed above.

Purpose of Meeting: To provide advice, recommendations and counsel on major goals and policies pertaining to Engineering programs and activities.

Agenda: The principal focus of the forthcoming meeting will be on strategic issues, both for the Directorate and the Foundation as a whole.

Dated: September 27, 2000.
Karen J. York,
Committee Management Officer.

[FR Doc. 00-25210 Filed 9-29-00; 8:45 am]

BILLING CODE 7555-01-M